DEPARTMENT OF TRANSPORTATION

Surface Transportation Board

[STB Docket No. AB-591X]

Laurinburg & Southern Railroad Co., Inc.—Discontinuance of Service Exemption—in Hoke and Scotland Counties, NC

Laurinburg & Southern Railroad Co., Inc. (LRS) has filed a verified notice of exemption under 49 CFR Part 1152 Subpart F-Exempt Abandonments and Discontinuances of Service to discontinue service over an approximately 17.3-mile line of railroad between milepost 8.9, in or near Laurinburg, Scotland County, NC, and milepost 26.2, in or near Raeford, Hoke County, NC. The line traverses United States Postal Service Zip Codes 28352, 28353, 28376, 28396, and 27812, and includes the stations of Wagram and Raeford.

LRS has certified that: (1) No local traffic has moved over the line for at least 2 years; (2) that all overhead traffic, if any, can be or already has been rerouted over other lines; (3) no formal complaint filed by a user of rail service on the line (or by a state or local government entity acting on behalf of such user) regarding cessation of service over the line either is pending with the Board or with any U.S. District Court or has been decided in favor of complainant within the 2-year period; and (4) the requirements at 49 CFR 1105.12 (newspaper publication), and 49 CFR 1152.50(d)(1) (notice to governmental agencies) have been met.

As a condition to these exemptions, any employee adversely affected by the discontinuance of service shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on December 26, 2007, unless stayed pending reconsideration. Petitions to stay that do not involve environmental issues and formal expressions of intent to file an OFA for continued rail service under 49 CFR 1152.27(c)(2),¹ must be filed by December 6, 2007.² Petitions to reopen must be filed by December 17, 2007, with: Surface Transportation Board, 395 E Street, SW., Washington, DC 20423-0001.

¹ Each OFA must be accompanied by the filing fee, which currently is set at $1,300. See 49 CFR 1002.2(f)(25).

² Because this is a discontinuance proceeding and not an abandonment, trail use/rail banking and public use conditions are not appropriate. Likewise, no environmental or historical documentation is required here under 49 CFR 1105.6(c) and 1105.8(b), respectively.

A copy of any petition filed with the Board should be sent to LRS's representative: Rose-Michele Nardi, Weiner Brodsky Sidman Kider PC, 1300 19th Street, NW., Fifth Floor, Washington, DC 20036-1609.

If the verified notice contains false or misleading information, the exemption is void ab initio.

Board decisions and notices are available on our Web site at http://www.stb.dot.gov.

Decided: November 19, 2007.
By the Board, David M. Konschnik, Director, Office of Proceedings.
Vernon A. Williams,
Secretary.

[FR Doc. E7-22931 Filed 11-23-07; 8:45 am]

BILLING CODE 4915-01-P